FEDERAL COMMUNICATIONS COMMISSION

47 CFR Part 73

[DA 05-2944; MB Docket No. 04-161; RM-10961, RM-11111]

Radio Broadcasting Services; Baltimore, Mount Sterling, Wilmington, and Zanesville, OH

AGENCY: Federal Communications Commission.

ACTION: Final rule.

SUMMARY: In response to a Notice of Proposed Rule Making, 69 FR 29255 (May 21, 2004), this Report and Order downgrades Channel 273B, Station WHIZ-FM, Zanesville, Ohio, to Channel 273B1, reallots that channel to Baltimore, Ohio, and modifies the license of Station WHIZ-FM accordingly. The coordinates for Channel 273B1 at Baltimore, Ohio, are 39-47-51 NL and 82-36-07 WL, with a site restriction of 5.3 kilometers (3.3 miles) south of Baltimore. This allotment is made contingent upon concurrence by the Canadian government. These changes in the FM Table of Allotments were made pursuant to a settlement agreement in this rulemaking proceeding, by which the licensee of Station WKLN(FM), Channel 272A, Wilmington, Ohio, withdrew its Petition for Rule Making which sought to reallot Channel 272A to Mount Sterling, Ohio. Station WKLN(FM)'s proposal was mutually exclusive with the proposal of Station WHIZ-FM.

DATES: Effective December 27, 2005.

FOR FURTHER INFORMATION CONTACT: R. Barthen Gorman, Media Bureau, (202) 418-2180.

SUPPLEMENTARY INFORMATION: This is a synopsis of the Commission's Report and Order, MB Docket No. 04-161, adopted November 9, 2005, and released November 10, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 reads as follows:

Authority: 47 U.S.C. 154, 303, 334, 336.

§ 73.202 [Amended]

2. Section 73.202(b), the Table of FM Allotments under Ohio, is amended by removing Zanesville, Channel 273B, and by adding Baltimore, Channel 273B1.

Federal Communications Commission.
John A. Karousos,
Assistant Chief, Audio Division, Media Bureau.

[FR Doc. 05-23354 Filed 11-29-05; 8:45 am]

BILLING CODE 6712-01-P